ENVIRONMENTAL PROTECTION AGENCY

[EPA-HQ-OAR-2007-0643; FRL-8458-5]

Proposed Approval of the Central Characterization Project's Remote-Handled Waste Characterization Program at Los Alamos National Laboratory

AGENCY: Environmental Protection Agency.

ACTION: Notice of availability; opening of public comment period.

SUMMARY: The Environmental Protection Agency (EPA or we) is announcing the availability of, and soliciting public comments for 45 days on, the proposed approval of the radioactive, remote-handled (RH), transuranic (TRU) waste characterization program implemented by the Central Characterization Project (CCP) at Los Alamos National Laboratory (LANL). This waste is intended for disposal at the Waste Isolation Pilot Plant (WIPP) in New Mexico.

In accordance with the WIPP Compliance Criteria, EPA evaluated the characterization of RH TRU debris waste from LANL-CCP during an inspection conducted the week of May 8, 2007. Using the systems and processes developed as part of the U.S. Department of Energy's (DOE's) Carlsbad Field Office (CBFO) program to characterize RH TRU waste, EPA verified whether DOE could adequately characterize RH TRU waste consistent with the Compliance Criteria. The results of EPA's evaluation of the LANL-CCP program and its proposed approval are described in the Agency's inspection report, which is available for review in the public dockets listed in ADDRESSES. We will consider public comments received on or before the due date mentioned in DATES.

This notice summarizes the waste characterization processes evaluated by EPA and EPA's proposed approval. As required by the 40 CFR 194.8, at the end of a 45-day comment period EPA will evaluate public comments received, and if appropriate, finalize the reports responding to the relevant public comments, and a final report and approval letter to DOE.

DATES: Comments must be received on or before October 9, 2007.

ADDRESSES: Submit your comments, identified by Docket ID No. EPA-HQ-OAR-2007-0643, by one of the following methods:

• http://www.regulations.gov: Follow the on-line instructions for submitting comments.

• E-mail to: a-and-r-docket@epa.gov.

• Fax: 202-566-1741.

• Mail: Air and Radiation Docket and Information Center, Environmental Protection Agency, Mailcode: 6102T, 1200 Pennsylvania Ave., NW., Washington, DC 20460.

Instructions: Direct your comments to Attn: Docket ID No. EPA-HQ-OAR-2007-0643. The Agency's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically at http://www.regulations.gov.

As of September 22, 2006, the EPA Docket Center (EPA/DC) Public Reading Room will be temporarily inaccessible to the public until November 6, 2006, due to construction. Public access to docket materials will still be provided. We strongly encourage you to visit the EPA Dockets Web site frequently (http://www.epa.gov/epahome/dockets.htm) in order to receive the latest status concerning the Public Reading Room and public access to docket materials.

If you wish to obtain materials from a docket in the EPA/DC, please go first to Regulations.gov (http://www.regulations.gov) and obtain electronic copies. If the materials are listed in the docket index but the documents themselves are not available in Regulations.gov, please call (202) 566-1744 or e-mail the applicable Program Office Docket.

EPA Docket Center operations will still continue during this period. In addition to electronic access through regulations.gov, public inspection of docket materials will be available by appointment during this period. Appointments may be made by calling (202) 566-1744 or by e-mailing the appropriate Docket Office.

If you wish to hand deliver comments during this period, you may drop them off between the hours of 8:30 a.m. and 4:30 p.m. Eastern Standard Time (EST), Monday through Friday, excluding Federal holidays at the EPA Headquarters, Room 6146F in the EPA West Building located at 1301 Constitution Avenue, NW., Washington, DC.

EPA visitors are required to show photographic identification and sign the EPA visitor log. After processing through the X-ray and magnetometer machines, visitors will be given an EPA/DC badge that must be visible at all times, and be escorted to Room 6146F to drop off comments.

If you have any other questions concerning the temporary closing of the EPA/DC Public Reading Room, you may call (202) 566-1744 between the hours of 8:30 a.m. and 4:30 p.m. Eastern Standard Time.

These documents are also available for review in hard-copy form at the following three EPA WIPP informational docket locations in New Mexico: in Carlsbad at the Municipal Library, Hours: Monday-Thursday, 10 a.m.-9 p.m., Friday-Saturday, 10 a.m.-6 p.m., and Sunday, 1 p.m.-5 p.m., phone number: 505-885-0731; in Albuquerque at the Government Publications Department, Zimmerman Library, University of New Mexico, Hours: Vary by semester, phone number: 505-277-2003; and in Santa Fe at the New Mexico State Library, Hours: Monday-Friday, 9 a.m.-5 p.m., phone number: 505-476-9700. As provided in EPA's regulations at 40 CFR part 2, and in accordance with normal EPA docket procedures, if copies of any docket materials are requested, a reasonable fee may be charged for photocopying.

FOR FURTHER INFORMATION CONTACT: Rajani Joglekar or Ed Feltcorn, Radiation Protection Division, Center for Federal Regulations, Mail Code 6608J, U.S. Environmental Protection Agency, 1200 Pennsylvania Avenue, Washington, DC 20460; telephone number: 202-343-9601; fax number: 202-343-2305; e-mail address: joglekar.rajani@epa.gov or feltcorn.ed@epa.gov.

SUPPLEMENTARY INFORMATION:

I. General Information

A. What Should I Consider as I Prepare My Comments for EPA?

1. Submitting CBI. Do not submit this information to EPA through http://www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

DOE is developing the WIPP, near Carlsbad in southeastern New Mexico, as a deep geologic repository for disposal of TRU radioactive waste. As defined by the WIPP Land Withdrawal Act (LWA) of 1992 (Pub. L. 102-579), as amended (Pub. L. 104-201), TRU waste consists of materials that have atomic numbers greater than 92 (with half-lives greater than twenty years), in concentrations greater than 100 nanocuries of alpha-emitting TRU isotopes per gram of waste. Much of the existing TRU waste consists of items contaminated during the production of nuclear weapons, such as rags, equipment, tools, and sludges.

TRU waste is itself divided into two categories, based on its level of radioactivity. Contact-handled (CH) TRU waste accounts for about 97 percent of the volume of TRU waste currently destined for the WIPP. It is packaged in 55-gallon metal drums or in metal boxes and can be handled under controlled conditions without any shielding beyond the container itself. The maximum radiation dose at the surface of a CH TRU waste container is 200 millirems per hour. CH waste primarily emits alpha particles that are easily shielded by a sheet of paper or the outer layer of a person's skin.

Remote-handled (RH) TRU waste emits more radiation than CH TRU waste and must therefore be both handled and transported in shielded casks. Surface radiation levels of unshielded containers of remote-handled transuranic waste exceed 200 millirems per hour. RH waste primarily emits gamma radiation, which is very penetrating and requires concrete, lead, or steel to block it.

On May 13, 1998, EPA announced its final compliance certification decision to the Secretary of Energy (published May 18, 1998, 63 FR 27354). This decision stated that the WIPP will comply with EPA's radioactive waste disposal regulations at 40 CFR part 191, Subparts B and C.

The final WIPP certification decision includes conditions that (1) Prohibit shipment of TRU waste for disposal at WIPP from any site other than the Los Alamos National Laboratories (LANL) until the EPA determines that the site has established and executed a quality assurance program, in accordance with §§ 194.22(a)(2)(i), 194.24(c)(3), and 194.24(c)(5) for waste characterization activities and assumptions (Condition 2 of Appendix A to 40 CFR Part 194); and (2) (with the exception of specific, limited waste streams and equipment at LANL) prohibit shipment of TRU waste for disposal at WIPP (from LANL or any other site) until EPA has approved the procedures developed to comply with the waste characterization requirements of § 194.22(c)(4) (Condition 3 of Appendix A to 40 CFR part 194). The EPA's approval process for waste generator sites is described in § 194.8 (revised July 2004).

Condition 3 of the WIPP Certification Decision requires EPA to conduct independent inspections at DOE's waste generator/storage sites of their TRU waste characterization capabilities before approving their program and the waste for disposal at the WIPP. EPA's inspection and approval process gives EPA (a) Discretion in establishing technical priorities, (b) the ability to accommodate variation in the site's waste characterization capabilities, and (c) flexibility in scheduling site WC inspections.

As described in section 194.8(b), EPA's baseline inspections evaluate each WC process component (equipment, procedures, and personnel training/experience) for its adequacy and appropriateness in characterizing TRU waste destined for disposal at WIPP. During an inspection, the site demonstrates its capabilities to characterize TRU waste(s) and its ability to comply with the regulatory limits and tracking requirements under § 194.24. A baseline inspection may describe any limitations on approved waste streams or waste characterization processes [§ 194.8(b)(2)(iii)]. In addition, a baseline inspection approval must specify what subsequent WC program changes or expansion should be reported to EPA [§ 194.8(b)(4)]. The Agency is required to assign Tier 1 (T1) and Tier 2 (T2) to the reportable changes depending on their potential impact on data quality. A T1 designation requires that the site must notify EPA of proposed changes to the approved components of an individual WC process (such as radioassay equipment or personnel), and EPA must also approve the change before it can be implemented. A WC element with a T2 designation allows the site to implement changes to the approved components of individual WC processes (such as visual examination procedures) but requires EPA notification. The Agency may choose to inspect the site to evaluate technical adequacy before approval. EPA inspections conducted to evaluate T1 or T2 changes are follow-up inspections under the authority of § 194.24(h). In addition to the follow-up inspections, if warranted, EPA may opt to conduct continued compliance inspections at TRU waste sites with a baseline approval under the authority of § 194.24(h).

The site inspection and approval process outlined in § 194.8 requires EPA to issue a Federal Register notice proposing the baseline compliance decision, docket the inspection report for public review, and seek public comment on the proposed decision for a period of 45 days. The report must describe the WC processes EPA inspected at the site, as well as their compliance with § 194.24 requirements.

EPA previously issued a preliminary approval of DOE's general framework for characterizing RH waste on March 26, 2004 (Docket A-98-49, Item II-B2-21). This approval requires DOE to provide site-specific RH waste characterization plans and characterization procedures for EPA approval prior to implementing them for characterizing RH waste.

III. Proposed Baseline Compliance Decision

EPA has performed a baseline inspection of RH TRU waste characterization activities at LANL-CCP (EPA Inspection No. EPA-LANL-CCP-RH-5.07-8). The purpose of EPA's inspection was to verify that the RH waste characterization program implemented at LANL-CCP for characterizing RH TRU, retrievably-stored, debris waste is adequate for the 16 RH waste canisters. EPA evaluated whether the RH waste characterized meets the regulatory requirements at 40 CFR 194.24.

This inspection was different from previous RH baseline inspections conducted at Idaho National Laboratory (INL) and Argonne National Laboratory East (ANL-E) (see Docket ID No. EPA-HQ-OAR-2006-0881), as well as previous contact-handled (CH) baseline inspections. Generally, EPA's RH and CH baseline inspections evaluate WC programs for technical adequacy and when approved the TRU sites would continue to implement the approved program components to characterize additional wastes on an ongoing basis. However, the characterization activities within the scope of this inspection had occurred at LANL in the 1990's and were completed prior to this inspection. This inspection's sole focus was to evaluate the records that had been assembled to document WC activities, including recently performed modeling, interpretation, and further calculations based on previously-generated RH measurement data for a LANL RH debris waste stream No. LA-MHD03.002. There will be no further waste characterization activities relative to this waste, and this proposed approval is directed to a discrete set of canisters within this LANL RH debris waste stream, as supported by the documentation the EPA inspection team evaluated during this inspection. Note that this is a retrospective approval of LANL RH debris waste characterization activities knowing that no additional RH debris waste will be characterized by LANL CCP in the future based on this baseline approval.

The purpose of the LANL-CCP RH WC inspection was to evaluate the adequacy of the site's WC programs for 16 canisters in a single RH debris waste stream for disposal at WIPP. The 16 canisters of RH debris in this waste stream were generated from the examination of fuel pins at the LANL Chemical, Metallurgical Research (CMR) facility from 1970 through 1984. In the early 1990's, wastes derived from examination of these fuel pins were loaded into 364 1½-gallon steel cans that were welded shut. These 364 cans were later assembled into 12 canisters and four other canisters were assembled with bulk-loaded debris from the same activities. The WC activity examined during the inspection was acceptable knowledge (AK) for these 16 canisters of RH retrievably-stored TRU debris (S5000) waste. CCP has assured EPA that these 16 sealed canisters will be disposed of “as is” at WIPP and will not be repackaged with any other RH debris waste.

The EPA inspection team determined that the records documenting LANL-CCP's RH WC program represented activities that were technically adequate. EPA, therefore, is proposing to approve the LANL-CCP RH WC program for the 16 RH TRU canisters in LANL RH Waste Stream No. LA-MHD03.002 evaluated during this baseline inspection described and documented in this report. The approval includes the following:

(1) The AK process for 16 canisters of RH retrievably-stored TRU debris in the waste stream designated LANL RH Waste Stream No. LA-MHD03.002.

(2) The radiological characterization (RC) process using dose-to-fissile gram, dose-to-curie (DTC), curie-to-dose and modeling-derived scaling factors for assigning radionuclide values to 16 canisters of RH retrievably-stored TRU debris in one waste stream, designated as LANL RH Waste Stream No. LA-MHD03.002 and documented in CCP-AK-LANL-501, Revision 0 and detailed in this report.

Since no additional WC activities that will occur relative to the 16 canisters of RH debris waste, changes to the WC activities evaluated during the baseline inspection are not expected to occur. Accordingly, this report does not list any tiering (T1 or T2) designations relative to this waste and waste characterization components proposed for the approval.

IV. Availability of the Baseline Inspection Report for Public Comment

EPA has placed the report discussing the results of the Agency's inspection of LANL-CCP in the public docket as described in ADDRESSES. In accordance with 40 CFR 194.8, EPA is providing the public 45 days to comment on these documents. The Agency requests comments on the proposed approval decision, as described in the inspection report. EPA will accept public comment on this notice and supplemental information as described in section 1.B. above. EPA will not make a determination of compliance before the 45-day comment period ends. At the end of the public comment period, EPA will evaluate all relevant public comments and revise the inspection report as necessary. If appropriate, the Agency will then issue a final approval letter and inspection report, both of which will be posted on the WIPP Web site.

Information on the certification decision is filed in the official EPA Air Docket, Docket No. A-93-02 and is available for review in Washington, DC, and at the three EPA WIPP informational docket locations in New Mexico (as listed in ADDRESSES). The dockets in New Mexico contain only major items from the official Air Docket in Washington, DC, plus those documents added to the official Air Docket since the October 1992 enactment of the WIPP LWA.

Dated: August 16, 2007.
Elizabeth Cotsworth,
Director, Office of Radiation and Indoor Air.

[FR Doc. E7-16612 Filed 8-21-07; 8:45 am]

BILLING CODE 6560-50-P